DEPARTMENT OF HEALTH AND HUMAN SERVICES

Substance Abuse and Mental Health Services Administration

Funding Opportunity Title: Residential Treatment for Pregnant and Postpartum Women and Residential Treatment for Women and Their Children (Short Title: PPW/RWC)

Announcement Type: Initial.

Funding Opportunity Number: TI 04-004.

Catalog of Federal Domestic Assistance (CFDA) Number: 93.243.

Due Date for Applications: June 2, 2004.

(Note: Letters from State Single Point of Contact (SPOC) in response to E.O. 12372 are due August 2, 2004.)

SUMMARY: The Substance Abuse and Mental Health Services Administration (SAMHSA), Center for Substance Abuse Treatment (CSAT), announces the availability of FY 2004 funds for Residential Treatment for Pregnant and Postpartum Women and Residential Treatment for Women and Their Children (Short Title: PPW/RWC). A synopsis of this funding opportunity, as well as many other Federal Government funding opportunities, are also available at the Internet site: http://www.grants.gov.

For complete instructions, potential applicants must obtain a copy of SAMHSA's standard Services Grants Program Announcement (SVC-04 PA (MOD)), and the PHS 5161-1 (Rev. 7/00) application form before preparing and submitting an application. The SVC-04 PA (MOD) describes the general program design and provides instructions for applying for all SAMHSA Services Grants, including the PPW/RWC program. SAMHSA's Services Grants provide funds to expand and strengthen effective, culturally appropriate substance abuse and mental health services at the State and local levels. The services implemented through SAMHSA's Services Grants must incorporate the best objective information available regarding effectiveness and acceptability. In general, these grants are appropriate for applicants seeking Federal support to implement substance abuse and mental health services that have a strong evidence-base for effectiveness. SAMHSA's Services Grants must be used primarily to support direct service delivery. SAMHSA expects that the services will be sustained beyond the term of the grant. Additional instructions and specific requirements for this funding opportunity are described below.

I. Funding Opportunity Description

Authority: Section 509 of the Public Health Service Act, as amended and subject to the availability of funds.

The purpose of PPW/RWC grants is to expand the availability of comprehensive, high quality residential substance abuse treatment services for low-income (as defined by Federal poverty definitions) women, age 18 and over, who are pregnant, postpartum (the period after childbirth up to12 months), or other parenting women, and their minor children, age 17 and under, who have limited access to quality health services. SAMHSA/CSAT has identified traditionally underserved populations, especially racial and ethnic minority women, as important subpopulations.

For purposes of this grant announcement, residential treatment programs are programs that offer organized substance abuse treatment services that feature a planned regimen of care in a safe 24-hour residential setting with staff supervision. If treatment services are provided off-site, they must be well coordinated and integrated to ensure that specific aspects of the individual treatment plan and services for the children can be addressed in both facilities. Such services must be coupled with access to primary health, mental health and social services for pregnant, postpartum, and other parenting women who suffer from alcohol and drug use problems, and for their minor children impacted by the perinatal and environmental effects of maternal substance use and abuse. These systems of care must be designed to improve the overall treatment outcomes for the woman, her children, and the family unit as a whole. For those minor children who do not reside in the treatment facility, it is important that they are actively engaged in the treatment process with their mothers. Applicants are required to: (1) Identify state-of-the-art clinical and service delivery approaches that are gender-specific and culturally appropriate for women and their minor children; and (2) utilize effective strategies for outreach, engagement, and retention of women in treatment.

Projects must expand or create additional treatment services that contribute to a comprehensive continuum of care. To accomplish a comprehensive service system, SAMHSA/CSAT expects that applicant organizations will need to partner with other organizations. As evidence of these partnerships, SAMHSA/CSAT requires applicants to have written memoranda of understanding/agreement (MOU/MOA) signed by the authorizing official in all partnership agencies and organizations that are critical to the success of the project. These partnership agencies and organizations may include local public housing authorities (for permanent housing for families), child welfare, health, mental health, and child serving agencies, family court, criminal justice, employment and education programs, and other public and private partners.

Background: According to the 1999 National Household Survey on Drug Abuse (NHSDA), almost 4 percent of pregnant females aged 15 to 44 used illicit drugs (i.e., marijuana, including hashish; cocaine, including crack; heroin; hallucinogens, including PCP and LSD; inhalants; or any prescription-type psychotherapeutic used non-medically) during the month before the survey. Of these, 3.4 percent of pregnant females aged 15 to 44 had used a single illicit drug in the past month, and 0.3 percent had used two or more drugs.

A recent NIDA study shows that children exposed to alcohol and illicit drugs are at-risk for birth defects, mental retardation, and later behavioral and learning difficulties. Other studies reveal that children who are raised by drug abusing adults tend to exhibit a wide range of developmental, mental health and behavioral problems, and are themselves at higher risk for using alcohol and other drugs.

SAMHSA/CSAT is especially concerned about the high morbidity and mortality rates of African American pregnant women and their infants. African American pregnant women tend to use illicit drugs at a higher rate than any other population of pregnant women. Data from the 2002 National Survey on Drug Use and Health found that among pregnant women 15 to 44 years of age, 6.2 percent of African American women reported illicit drug use in the month prior to survey compared to 3.6 percent of white women. The effects of illicit drug use by women during the prenatal period are well documented in the literature to include inadequate prenatal care, premature labor, low birth weight infants, and other adverse outcomes. The National Center for Health Statistics reports persistent racial/ethnic disparities in infant mortality. From 1997-2001, the infant mortality rate for babies born to African American mothers was 14.0 per 1000 births while the rate for babies born to Caucasian mothers was 5.7 per 1000.

A CSAT cross-site evaluation study of PPW/RWC projects found strikingly positive treatment outcomes on low birth weight (LBW) deliveries, premature deliveries, and infant deaths. These outcomes were compared to outcomes for women in the general population and to the best available estimates of the rates of adverse outcomes that would have been likely had women continued abusing drugs throughout their pregnancies. The rate of LBW delivery among women in treatment was 5.8% compared to 7.5% for a national sample, and 34% for a comparison of women testing positive for cocaine at delivery. The rate of premature delivery among women in treatment was 7.3% compared to the national sample of 11.4% and a cocaine-using sample of 27%. The rate of infant death for women in treatment was 0.4% compared to the national sample of 0.7% and the cocaine-using sample of 1.2%.

The effects of alcohol and drug use have negative consequences for women, their children, and the entire family. Providing comprehensive treatment services significantly improves the quality of life for women and their children.

II. Award Information

1. Estimated Funding Available/Number of Awards: It is expected that up to $7 million will be available to fund up to 14 awards in FY 2004. The maximum allowable award is $500,000 in total costs (direct and indirect) per year for up to 3 years. Proposed budgets cannot exceed the allowable amount in any year of the proposed project. The actual amount available for the awards may vary, depending on unanticipated program requirements and the number and quality of the applications received. Annual continuations will depend on the availability of funds, grantee progress in meeting program goals and objectives, and timely submission of required data and reports.

2. Funding Instrument: Grant.

III. Eligibility Information

1. Eligible Applicants are domestic public and private nonprofit entities. For example, State, local or tribal governments; public or private universities and colleges; community- and faith-based organizations; and tribal organizations may apply. The statutory authority for this program prohibits grants to for-profit organizations.

Applications for SAMHSA Services Grants must include evidence of experience and credentials as described in Section III-3 of the SVC-04 PA (MOD). Applications that do not include the required evidence will be screened out and will not be reviewed.

2. Cost Sharing or Matching is not required.

3. Other: Applicants must also meet certain application formatting and submission requirements or the application will be screened out and will not be reviewed. These requirements are described in Section IV-2 below as well as in the SVC-04 PA (MOD).

IV. Application and Submission Information

1. Address to Request Application Package: Complete application kits may be obtained from: the National Clearinghouse for Alcohol and Drug Information (NCADI) at 1-800-729-6686. When requesting an application kit for this program, the applicant must specify the funding opportunity title (PPW/RWC) and the funding opportunity number (TI 04-004). All information necessary to apply, including where to submit applications and application deadline instructions, is included in the application kit. The PHS 5161-1 application form is also available electronically via SAMHSA's World Wide Web Home Page: http://www.samhsa.gov. (Click on ‘Grant Opportunities’) and the SVC-04 PA (MOD) is available electronically at http://www.samhsa.gov/grants/2004/standard/Services/index.asp. When submitting an application, be sure to type “TI 04-004, PPW/RWC” in Item Number 10 on the face page of the application form. Also, SAMHSA applicants are required to provide a DUNS Number on the face page of the application. To obtain a DUNS Number, access the Dun and Bradstreet web site at http://www.dunandbradstreet.com or call 1-866-705-5711.

Because grantees in the PPW/RWC program may use grant funds to provide direct substance abuse services, applicants are required to complete the Assurance of Compliance with SAMHSA Charitable Choice Statutes and Regulations, form SMA 170. This form will be posted on SAMHSA's web site with the NOFA and provided in the Application kits available at NCADI.

2. Content and Form of Application Submission: Information including required documents, required application components, and application formatting requirements is available in the SVC-04 PA (MOD) in Section IV-2.

Checklist for Application Formatting Requirements

SAMHSA's goal is to review all applications submitted for grant funding. However, this goal must be balanced against SAMHSA's obligation to ensure equitable treatment of applications. For this reason, SAMHSA has established certain formatting requirements for its applications. If you do not adhere to these requirements, your application will be screened out and returned to you without review.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the page limit for the Project Narrative stated in the SVC-04 PA (MOD).

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

• The page limit for Appendices stated in the SVC-04 PA (MOD) cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

• Applications should comply with the following requirements:

• Provisions relating to confidentiality, participant protection and the protection of human subjects, as indicated in the SVC-04 PA (MOD).

• Budgetary limitations as indicated in Sections I, II, and IV-5 of the SVC-04 PA (MOD).

• Documentation of nonprofit status as required in the PHS 5161-1.

• Pages should be typed single-spaced with one column per page.

• Pages should not have printing on both sides.

• Please use black ink, and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 2, 2004. You will be notified by postal mail that your application has been received. Additional submission information is available in the SVC-04 PA (MOD) in Section IV-3.

4. Intergovernmental Review: Applicants for this funding opportunity must comply with Executive Order 12372 (E.O.12372). E.O.12372, as implemented through Department of Health and Human Services (DHHS) regulation at 45 CFR Part 100, sets up a system for State and local review of applications for Federal financial assistance. Instructions for complying with E.O. 12372 are provided in the SVC-04 PA (MOD) in Section IV-4. A current listing of State Single Points of Contact (SPOCs) is included in the application kit and is available at http://www.whitehouse.gov/omb/grants/spoc.html.

5. Funding Restrictions: Information concerning funding restrictions is available in the SVC-04 PA (MOD) in Section IV-5.

V. Application Review Information

1. Evaluation Criteria: Applications will be reviewed against the Evaluation Criteria and requirements for the Project Narrative specified in the SVC-04 PA (MOD). The following information describes exceptions or limitations to the SVC-04 PA (MOD) and provides special requirements that pertain only to PPW/RWC grants. Applicants must discuss the following requirements in their applications, in addition to the requirements specified in the SVC-04 PA (MOD):

1.1 In “Section B: Proposed Evidence-Based Service/Practice”:

a. Applicants must demonstrate that residential treatment services will be provided to pregnant, postpartum, or other parenting women and their minor children.

b. Applicants must identify state-of-the art clinical and service delivery approaches that are gender-specific and culturally appropriate for women and also age appropriate for their minor children. Applicants must also discuss effective strategies for outreach, engagement, and retention of women in treatment.

1.2 In “Section C: Proposed Implementation Approach”:

a. Applicants are not required to respond to the 4th bullet related to how project components will be embedded within the existing service delivery system.

b. Applicants must describe a comprehensive service system of care that includes the required services described below. These services must be provided either by the applicant organization or through a network of provider organizations in partnership with the applicant. In Appendix 6 of the application, applicants must show evidence of all network partners by including memoranda of understanding/memoranda of agreement (MOU/MOA) signed by the authorizing official in all partnership agencies and organizations critical to the success of the proposed project. If an organization is a comprehensive service provider, does not require any partnering with other service providers, and has clearly justified this in the description of how the required services are provided, a statement to this effect must be provided in Appendix 6. [Note: For purposes of rating the evidence of a comprehensive system of care, including who performs the required services, and the signed MOU/MOAs with network partners (if applicable), reviewers will be instructed to use 12 of the total 25 points allowed for the entire “Proposed Implementation Approach” criterion for this single critical requirement. You may include letters of commitment/support from community organizations supporting the project in Appendix 1 of the application; however these letters are not a substitute for the MOU/MOA requirement.]

Required Services for Women

• Outreach, screening, and assessment;

• Detoxification;

• Substance abuse education and treatment;

• Medical, dental, other physical health care services, including diabetes, hypertension, prenatal and postpartum health care; and referrals for necessary hospital services;

• Training in parenting;

• Education, screening, counseling, and treatment of Hepatitis, HIV/AIDS, other STDs, and related issues;

• Mental health assessment and treatment;

• Trauma-informed services, including assessment and interventions for emotional, sexual, and physical abuse;

• Employment readiness, training, and placement;

• Education and tutoring assistance for obtaining a GED and higher education;

• Childcare during periods in which the woman is engaged in therapy or in other necessary health or rehabilitative activities; and

• Transportation and other wraparound services.

Required Services for Children

• Screenings and developmental diagnostic assessments regarding the social, emotional, cognitive, and physical status of the infants and children;

• Therapeutic interventions, including counseling, occupational, and physical therapies;

• Pediatric health care, including immunizations, and treatment for asthma, diabetes, hypertension, and any perinatal effects of maternal substance abuse, e.g., HIV;

• Social services and financial supports; and

• Education and recreational services.

Required Services for the Family

• Individual and family counseling/therapy;

• Alcohol and drug education;

• Parenting training; and

• Referral services for substance abuse, social, psychological, and medical services.

Required Case Management Services

• Coordinate services;

• Assess and monitor the extent to which required services are appropriate for women and children;

• Assist with community reintegration, before and after discharge, including referrals to appropriate resources; and

• Assist in accessing resources from Federal, State, and local programs that provide a range of treatment services, including substance abuse, health, mental health, housing, employment, education, and training.

1.3 In “Section E: Evaluation and Data” the following requirements are added to the end of the 6th bullet: Applicants must state whether or not the per person costs are within the following reasonable ranges by treatment modality. Applicants must also discuss the reasonableness of the per person costs. If proposed costs exceed reasonable ranges, a detailed justification must be provided.

Program costs. The following are considered reasonable ranges by treatment modality:

Residential: $3,000 to $10,000

Outpatient (Non-Methadone): $1,000 to $5,000

Outpatient (Methadone): $1,500 to $8,000

Intensive Outpatient: $1,500 to $7,500

Screen/Brief Intervention/Brief Treatment/Outreach/Pretreatment Services: $200 to $1,200

SAMHSA/CSAT computes per person costs as follows. The total support requested for the life of the project is multiplied by .8 (.2 will be the allowance for GPRA reporting requirements). The resulting amount is then be divided by the number of persons the applicant proposes to serve over the life of the project.

The outreach and pretreatment services cost band only applies to outreach and pretreatment programs that do not also offer treatment services but operate within a network of substance abuse treatment facilities. Treatment programs that add outreach and pretreatment services to a treatment modality or modalities are expected to fall within the cost band for that treatment modality.

1.4 Appendix 6: Memoranda of Understanding/Agreement: [Note: Appendix 6 is in addition to the 5 required appendices listed in SVC-04 PA (MOD).] To achieve a comprehensive service system, SAMHSA/CSAT expects that applicant organizations will need to partner with other organizations, including those providing primary health, mental health, and social services. Memoranda of understanding/agreement (MOU/MOA) signed by the authorizing official in all partnership agencies and organizations that are critical to the success of the project must be included in Appendix 6, “Memoranda of Understanding/Agreement” of the application. If the applicant organization is a comprehensive service provider and does not require any partnering with other service organizations, a statement to that effect must be included in Appendix 6 of the application. Letters of commitment/support are not a substitute for the MOU/MOA requirement.

1.5 Performance Measurement: All SAMHSA grantees are required to collect and report certain data, so that SAMHSA can meet its obligations under the Government Performance and Results Act (GPRA). Grantees of the PPW/RWC program will be required to report performance in several areas. Applicants must document their ability to collect and report the required data in “Section E: Evaluation and Data” of their applications. All PPW/RWC grant applicants must document their ability to collect and report data using the Targeted Capacity Expansion Client Level GPRA tool, which can be found at http://www.csat-gpra.samhsa.gov (click on “Data Collection Tools/Instructions”), along with instructions for completing it. Hard copies are available in the application kits distributed by SAMHSA's National Clearinghouse for Alcohol and Drug Information. GPRA data must be collected at baseline (i.e., the client's entry into the project), 6 months after the baseline, and 12 months after the baseline. Projects serving adolescents also must collect 3-month post-baseline data to capture the nuances of change particular to this population. GPRA data must be entered into the GPRA web system within 7 business days of the forms being completed. In addition, 80% of the participants must be followed up. GPRA data are to be collected and then entered into CSAT's GPRA Data Entry and Reporting System (http://www.csat-gpra.samhsa.gov). Training and technical assistance on data collecting, tracking, and follow-up, as well as data entry, will be provided by CSAT. Applicants may also be required to collect additional data to determine the degree of SAMHSA/CSAT effectiveness in meeting its objectives for this program.

2. Review and Selection Process: Information about the review and selection process is available in the SVC-04 PA (MOD) in Section V-2.

VI. Award Administration Information

Award administration information, including award notices, administrative and national policy requirements, and reporting requirements are available in the SVC-04 PA (MOD) in Section VI. SAMHSA's standard terms and conditions are available at http://www.samhsa.gov/grants/2004/useful_info.asp.

VII. Agency Contact for Additional Information

For questions concerning program issues, contact Linda White Young, SAMHSA/CSAT, 5600 Fishers Lane, Rockwall II, Suite 740, Rockville, MD 20857; (301) 443-8392; E-mail: Lwhite1@samhsa.gov. For questions on grants management issues, contact Kathleen Sample, SAMHSA/Division of Grants Management, 5600 Fishers Lane, Rockwall II, Suite 630, Rockville, MD 20857; (301) 443-9667; E-mail: ksample@samhsa.gov.

Dated: March 17, 2004.
Margaret M. Gilliam,
Acting Director, Office of Policy Planning and Budget, Substance Abuse and Mental Health Services Administration.

[FR Doc. 04-6375 Filed 3-22-04; 8:45 am]

BILLING CODE 4162-20-P